DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Recreational Charter Vessel Guide and Owner Data Collection.

OMB Control Number: None.

Form Number(s): NA.

Type of Request: Regular submission (request for a new information collection).

Number of Respondents: 643.

Average Hours Per Response: Complete survey, 90 minutes; follow-up/non-response survey, 6 minutes.

Burden Hours: 519.

Needs and Uses: Numerous management measures have recently been proposed or implemented that affect recreational charter boat fishing for Pacific halibut off Alaska. On January 5, 2010, the National Marine Fisheries Service (NMFS) issued a final rule establishing a limited entry permit system for charter vessels in the guided halibut sport fishery in International Pacific Halibut Commission Areas 2C (Southeast Alaska) and 3A (Central Gulf of Alaska) (75FR554). This permit system is intended to address concerns about the growth of fishing capacity in this fishery sector, which accounts for a substantial portion of the overall recreational halibut catch in Alaska. On March 16, 2011, a size limit on Pacific halibut caught while charter boat fishing for the 2011 fishing season was established (76FR14300). In addition, on July 22, 2011, a Halibut Catch Sharing Plan (76FR44156) was proposed that would alter the way Pacific halibut is allocated between the guided sport (i.e., the charter sector) and the commercial halibut fishery.

To assess the effect of regulatory restrictions (currently in place or potential) on charter operator and owner behavior and welfare, it is necessary to obtain a better general understanding of the Alaska recreational charter boat industry. Some information useful for this purpose is already collected from existing sources, such as charter vessel logbooks administered by Alaska Department of Fish and Game (ADF&G). However, information on vessel and crew characteristics, services offered to clients, spatial and temporal aspects of their operations and fishing behavior, and costs and earnings information are generally not available from these existing data sources and thus must be collected directly from the industry through voluntary survey efforts.

In order to address this information gap, NMFS' Alaska Fisheries Science Center proposes to conduct a survey of charter vessel owners to collect annual cost and earnings data that will supplement logbook data collected by ADF&G. The proposed data collection will provide basic economic information about the charter sector, including revenues produced from different products and services provided to clients, fixed and variable operating costs and locations of purchases. These data will support improved analysis and of the effects of fisheries regulations on the charter fishing industry, information that is increasingly needed by the North Pacific Fishery Management Council and NMFS to deal with ongoing halibut resource issues and other fishery management issues involving the charter industry.

Affected Public: Business or other for-profit organizations.

Frequency: Annually.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: December 16, 2011.
Gwellnar Banks,
Management Analyst, Office of the Chief Information Officer.

[FR Doc. 2011-32599 Filed 12-20-11; 8:45 am]

BILLING CODE 3510-22-P